DEPARTMENT OF THE INTERIOR

Bureau of Reclamation

Carlsbad Project Water Operations and Water Supply Conservation

AGENCY: Bureau of Reclamation, Interior.

ACTION: Notice of Intent to Prepare a Draft Environmental Impact Statement and Announcement of Public Scoping Meetings.

SUMMARY: Pursuant to section 102(2)(C) of the National Environmental Policy Act (NEPA) of 1969, as amended, the Bureau of Reclamation (Reclamation) and the New Mexico Interstate Stream Commission (NMISC) will prepare a draft environmental impact statement (EIS) on Carlsbad Project water operations and water supply conservation to address changes in the operation of Sumner Dam, located on the Pecos River, New Mexico, and implementation of a proposed water acquisition program in the Pecos River Basin. Reclamation is the lead federal agency and the NMISC will serve as a joint lead agency for NEPA compliance for the proposed action. The purpose of Reclamation's proposed federal action is to conserve the Pecos bluntnose shiner, a federally threatened fish species, and to conserve the Carlsbad Project water supply. The underlying need for Reclamation action is compliance with the Endangered Species Act and Reclamation's responsibility to conserve the Carlsbad Project water supply.

Operation of Sumner Dam, and related operations of Santa Rosa, Brantley, and Avalon Dams, and the authorities under which those facilities are operated, will be reviewed to identify operational flexibility and opportunities to accomplish the purposes of the Carlsbad Project. As the EIS progresses, there may develop a need to assess some change in the operation of Fort Sumner Irrigation District Diversion Dam (owned by Reclamation and operated by the Fort Sumner Irrigation District). Effects of proposed operational changes on water supply and other affected resources will be analyzed and options to mitigate for any adverse impacts will be identified. A water acquisition program will be proposed to conserve Carlsbad Project water supply. The EIS will also identify potential effects to Texas state line water deliveries and to the state of New Mexico's ability to comply with the Pecos River Compact and the U.S. Supreme Court Amended Decree in Texas v. New Mexico and will include reasonable options to avoid or minimize effects. The proposed operational changes and mitigation options will be within the existing authority of Reclamation, and will comply with state, federal, and other applicable laws and regulations. During the process, opportunities to provide additional environmental, recreational, and water supply benefits may be identified and incorporated.

The following agencies, governmental bodies, and irrigation/conservancy districts will be invited to participate in the EIS process: Carlsbad Irrigation District, Pecos Valley Artesian Conservancy District, Fort Sumner Irrigation District, U.S. Fish and Wildlife Service, New Mexico Department of Game and Fish, U.S. Army Corps of Engineers, Pecos Valley Water Users Organization, Chaves County, De Baca County, Eddy County, and Guadalupe County.

To receive input from interested organizations and individuals, public scoping meetings will be held and additional input invited. Scoping is an early and open process for determining the scope of issues to be addressed and for identifying the significant issues related to a proposed action. The purpose of scoping is to obtain information that will focus the environmental documentation on significant issues. The scoping period is open through December 6, 2002.

DATES AND ADDRESSES: Public scoping meetings will be held during the month of October in Santa Rosa, Ft. Sumner, Carlsbad, and Roswell, New Mexico. The dates and times of the meetings are as follows:

• Monday, October 21, 2002, 7 p.m. to 9 p.m., City Hall Meeting Room, 141 5th Street, Santa Rosa, New Mexico 88435.

• Tuesday, October 22, 2002, 7 p.m. to 9 p.m., Village Community House, 1204 North 4th Street, Ft. Sumner, New Mexico 88119.

• Wednesday, October 23, 2002, 7 p.m. to 9 p.m., Pecos River Village Conference Center, 711 Muscatel, Room 3, Carlsbad, New Mexico 88220.

• Thursday, October 24, 2002, 7 p.m. to 9 p.m., Bureau of Land Management Conference Room, 2909 West 2nd Street, Roswell, New Mexico 88201.

The release date of the draft EIS for public comment as well as the dates that the public hearings will be conducted to receive comments on the EIS will be announced in the Federal Register and in the local news media.

Reclamation also invites written input to the scoping process. Written comments regarding the scope and content of the EIS should be addressed to Lori Robertson, Bureau of Reclamation, Albuquerque Area Office, 505 Marquette, NW., Suite 1313, Albuquerque, New Mexico 87102; faxogram (505) 248-5356; e-mail: lrobertson@uc.usbr.gov. In order to be most useful, comments should be received by December 6, 2002. Our practice is to make comments, including names and home addresses of respondents, available for public review. Individual respondents may request that we withhold their home address from public disclosure, which we will honor to the extent allowable by law. If you wish us to withhold your name and/or address, you must state this prominently at the beginning of your comment. We will make all submissions from organizations or businesses, and from individuals identifying themselves as representatives or officials of organizations or businesses, available for public disclosure in their entirety.

FOR FURTHER INFORMATION CONTACT: Ms. Lori Robertson, Bureau of Reclamation, 505 Marquette, NW., Suite 1313, Albuquerque, New Mexico 87102; e-mail: ; telephone (505) 248-5326, or Mr. John W. Longworth, New Mexico Interstate Stream Commission, Bataan Memorial Building, State Capitol, PO Box 25102, Santa Fe, New Mexico 87504; e-mail: jlongworth@ose.nm.us; telephone (505) 827-7847.

SUPPLEMENTARY INFORMATION: Federal involvement in the Pecos River Basin began in 1905 with authorization of the Carlsbad Project. Reclamation stores and delivers Carlsbad Project water for the benefit of the Carlsbad Irrigation District (CID). Reclamation's Carlsbad Project facilities on the Pecos River now include Sumner Dam, Brantley Dam, and Avalon Dam. The Black River Diversion Dam is also a Carlsbad Project facility. Reclamation and CID are also permitted to store Carlsbad Project water in Santa Rosa Lake provided total storage in all four reservoirs does not exceed 176,500 acre-feet. The Fort Sumner Diversion Dam is owned by Reclamation but it is not associated with the Carlsbad Project. The Fort Summer Irrigation District operates the facility and holds title to all water rights diverted at the dam.

In 1987, the Pecos bluntnose shiner was listed by the U.S. Fish and Wildlife Service as a threatened species and approximately 101 miles of the Pecos River were designated as critical habitat. Releases from Sumner Dam in 1989 adversely affected the Pecos bluntnose shiner. Reclamation consulted with the U.S. Fish and Wildlife Service and received a biological opinion from them in 1991 indicating that operation of Reclamation's Pecos River facilities was jeopardizing the continued existence of the Pecos bluntnose shiner. In 1992, Reclamation began a cooperative research program aimed at determining how to meet the needs of the Pecos bluntnose shiner and downstream water users. Through a multi-agency collaborative effort, a hydrologic model has been developed and various biological reports have been prepared.

For several years, Reclamation and the NMISC have worked together to address Pecos River water issues. Recently, the two agencies developed an approach for environmental review of proposed Pecos River Basin activities. One EIS would be prepared for Reclamation's Carlsbad Project water operations and water acquisition (Carlsbad Project Water Operations and Water Supply Conservation EIS which is the subject of this Notice of Intent). Another EIS would be prepared for a miscellaneous purposes contract that would allow the NMISC to use Carlsbad Project water allocated to approximately 6,000 acres of Carlsbad Irrigation District land for purposes other than agriculture (Miscellaneous Purposes Contract EIS). Reclamation and the NMISC plan to conduct both EIS processes concurrently to the extent possible and fully coordinate environmental analyses.

The range of alternatives to be analyzed in this EIS would likely include various operational scenarios for Sumner Dam and various sources and quantities of water for the water acquisition program. Adjustments to the timing, magnitude, frequency, duration, and rate of change of releases from Sumner Dam will likely be addressed. The quantity of water stored in or bypassed through Sumner Reservoir during low-flow periods will be addressed. To the extent that revised operations diminish the Carlsbad Project water supply, the alternatives will include various water acquisition options. Water offsets could be through acquisition of water rights voluntarily offered for sale or lease and other cooperative mitigation efforts. The concept of adaptive management would be incorporated to allow refinement of operations or changes to targets and ranges as new information becomes available, and in response to environmental conditions.

The environmental evaluation will assess potential effects that the proposed action may have on Indian Trust Assets. It will also assess potential disproportionate effects on minority or low-income communities. Currently, there are no known environmental justice or Indian Trust Asset issues related to the proposed action. Operational scenarios and water right acquisitions and other cooperative mitigation efforts have the potential to adversely affect New Mexico's ability to maintain compliance with the Pecos River Compact and Amended Decree. Effects of each alternative on New Mexico's state line deliveries and its Pecos River Compact obligations will be evaluated. With successful mitigation measures, the most significant issues associated with the proposed action are thought to be economic and social change associated with permanent retirement of irrigated farmland.

Dated: September 17, 2002.
Rick Gold,
Regional Director, Upper Colorado Region.

[FR Doc. 02-25438 Filed 10-3-02; 8:45 am]

BILLING CODE 4310-MN-P